FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of General Counsel at (202) 523-5740 or GeneralCounsel@fmc.gov.

Agreement No.: 010979-069.

Agreement Name: Caribbean Shipowners Association.

Parties: Crowley Caribbean Services LLC; Hybur Ltd.; King Ocean Services Limited, Inc.; Seaboard Marine Ltd.; and Tropical Shipping & Construction Co., Ltd.

Filing Party: Wayne Rohde, Cozen O'Connor.

Synopsis: The Amendment revises Article 3 of the Agreement to delete Seacor Island Lines LLC as a party to the Agreement, updates the addresses of the two other members, and deletes unnecessary information.

Proposed Effective Date: 8/26/2025.

Location: https://www2.fmc.gov/FMC.Agreements.Web/Public/AgreementHistory/1194.

Agreement No.: 011953-015.

Agreement Name: Florida Shipowners Group Agreement.

Parties: Crowley Caribbean Services LLC; Hybur Ltd.; King Ocean Services Limited; Seaboard Marine, Ltd.; and Tropical Shipping & Construction Company Limited, LLC.

Filing Party: Wayne Rohde, Cozen O'Connor.

Synopsis: The Amendment revises Article 10 of the Agreement to change the basis upon which expenses are shared by the parties.

Proposed Effective Date: 10/10/2025.

Location: https://www2.fmc.gov/FMC.Agreements.Web/Public/AgreementHistory/521.

Dated: August 29, 2025.
Jennifer Everling,
Assistant Secretary.

[FR Doc. 2025-16904 Filed 9-2-25; 8:45 am]

BILLING CODE 6730-02-P